DEPARTMENT OF HEALTH AND HUMAN SERVICES

Centers for Medicare & Medicaid Services

[CMS-1288-CN]

Medicare Program; Meeting of the Advisory Panel on Ambulatory Payment Classification (APC) Groups—August 17, 18, and 19, 2005; Correction

AGENCY: Centers for Medicare & Medicaid Services (CMS), HHS.

ACTION: Notice; correction.

SUMMARY: This document corrects technical errors that appeared in the notice published in the Federal Register on July 8, 2005 entitled “Medicare Program; Meeting of the Advisory Panel on Ambulatory Payment Classification (APC) Groups—August 17, 18, and 19, 2005.”

FOR FURTHER INFORMATION CONTACT: Shirl Ackerman-Ross, (410) 786-4474.

SUPPLEMENTARY INFORMATION:

I. Background

In FR Doc. 05-13562 of July 8, 2005 (70 FR 39514), there were a number of technical errors concerning the deadline dates that are identified and corrected in the Correction of Errors section below.

II. Correction of Errors

In FR Doc. 05-13562 of July 8, 2005 (70 FR 39514), make the following corrections:

1. On page 39515, in the third column; in Section III., the deadline for hardcopy written comments and suggested agenda topics is Monday, August 1, 2005.

2. On page 39515, in the third column; in Section IV., the deadline for oral presentations is Monday, August 1, 2005.

3. On page 39515, in the third column; in Section V., the deadline for submission of presenter and presentation criteria is Monday, August 1, 2005.

4. On page 39516, in the first column; in Section VII., the deadline for registering to attend the meeting is Monday, August 8, 2005.

5. On page 39516, in the second column; in Section IX., the deadline for requesting special accommodations for the meeting is Monday, August 8, 2005.

Authority: Section 1833(t) of the Act (42 U.S.C. 1395l(t)). The Panel is governed by the provisions of Pub. L. 92-463, as amended (5 U.S.C. Appendix 2).

(Catalog of Federal Domestic Assistance Program No. 93.773, Medicare-Hospital Insurance; and Program No. 93.774, Medicare-Supplementary Medical Insurance Program).

Dated: July 11, 2005.
Jacquelyn Y. White,
Director, Office of Strategic Operations and Regulatory Affairs.

[FR Doc. 05-13965 Filed 7-13-05; 8:45 am]

BILLING CODE 4120-01-P